DEPARTMENT OF COMMERCE

International Trade Administration

[A-201-802]

Preliminary Results of Antidumping Duty Administrative Review: Gray Portland Cement and Clinker From Mexico

AGENCY: Import Administration, International Trade Administration, Department of Commerce.

SUMMARY: In response to requests from interested parties, the Department of Commerce is conducting an administrative review of the antidumping duty order on gray portland cement and clinker from Mexico. The review covers exports of subject merchandise to the United States during the period August 1, 2003, through July 31, 2004, from one firm, CEMEX, S.A. de C.V., and its affiliate, GCC Cemento, S.A. de C.V. We have preliminarily determined that sales were made below normal value during the period of review.

We invite interested parties to comment on these preliminary results. Parties who submit arguments in this proceeding are requested to submit with the argument (1) a statement of the issues, and (2) a brief summary of the argument.

EFFECTIVE DATE: September 13, 2005.

FOR FURTHER INFORMATION CONTACT: Hermes Pinilla or Jeffrey Frank, Office of AD/CVD Operations 5, Import Administration, International Trade Administration, U.S. Department of Commerce, 14th Street and Constitution Avenue, NW., Washington, DC 20230; telephone (202) 482-3477, (202) 482-0090, respectively.

SUPPLEMENTARY INFORMATION:

Background

On August 3, 2004, the Department of Commerce (the Department) published in the Federal Register the Notice of Opportunity to Request Administrative Review of Antidumping or Countervailing Duty Order, Finding, or Suspended Investigation concerning the antidumping duty order on gray portland cement and clinker (cement) from Mexico (69 FR 46496). In accordance with 19 CFR 351.213(b), the petitioner, the Southern Tier Cement Committee (STCC), requested a review of CEMEX, S.A. de C.V. (CEMEX), and CEMEX's affiliate, GCC Cemento, S.A. de C.V. (GCCC). In addition, CEMEX and GCCC requested reviews of their own sales during the period of review (POR). On September 22, 2004, the Department published in the Federal Register the Notice of Initiation of Antidumping and Countervailing Duty Administrative Reviews and Request for Revocation in Part (69 FR 56745) in which it initiated an administrative review of the antidumping duty order on cement from Mexico. The POR is August 1, 2003, through July 31, 2004. We are conducting a review of CEMEX and GCCC pursuant to section 751 of the Tariff Act of 1930, as amended (the Act).

Scope of the Order

The products subject to this order include gray portland cement and clinker. Gray portland cement is a hydraulic cement and the primary component of concrete. Clinker, an intermediate material product produced when manufacturing cement, has no use other than of being ground into finished cement. Gray portland cement is currently classifiable under Harmonized Tariff Schedule of the United States (HTSUS) item number 2523.29, and cement clinker is currently classifiable under HTSUS item number 2523.10. Gray portland cement has also been entered under HTSUS item number 2523.90 as “other hydraulic cements.” Although the HTSUS subheadings are provided for convenience and customs purposes, the written description of the scope of this proceeding is dispositive.

Verification

As provided in section 782(i) of the Act, we verified certain home-market information submitted by CEMEX using standard verification procedures, including an examination of relevant sales and financial records and the selection of original documentation containing relevant information. For further details, please see the Department's verification report dated August 30, 2005, on file in the Central Records Unit (CRU), Room B-099 of the main Department building.

Collapsing

Section 771(33) of the Act defines when two or more parties will be considered affiliated for purposes of an antidumping analysis. Moreover, the regulations describe when the Department will treat two or more affiliated producers as a single entity (i.e., “collapse” the firms) for purposes of calculating a dumping margin (see 19 CFR 351.401(f)). In previous administrative reviews of this order, we analyzed the record evidence and collapsed CEMEX and GCCC in accordance with the regulations.¹

¹ See, e.g., Preliminary Results and Rescission in Part of Antidumping Duty Administrative Review: Gray Portland Cement and Clinker From Mexico, 69 FR 34647, 34648 (June 22, 2004). No changes were made in the final results of review (see Gray Portland Cement and Clinker From Mexico: Final Results of Antidumping Duty Review, 69 FR 77989 (December 29, 2004)).

The regulations state that we will treat two or more affiliated producers as a single entity where those producers have production facilities for similar or identical products that would not require substantial retooling of either facility in order to restructure manufacturing priorities and we conclude that there is a significant potential for the manipulation of price or production. In identifying a significant potential for the manipulation of price or production, the factors we may consider include the following: (i) the level of common ownership; (ii) the extent to which managerial employees or board members of one firm sit on the board of directors of an affiliated firm; (iii) whether operations are intertwined, such as through the sharing of sales information, involvement in production and pricing decisions, the sharing of facilities or employees, or significant transactions between the affiliated producers. See 19 CFR 351.401(f).

Having reviewed the current record, we found that the factual information underlying our decision to collapse these two entities has not changed from previous administrative reviews. See “Collapsing CEMEX, S.A., de C.V. and GCC Cemento, S.A. de C.V. for the Current Administrative Review,” dated June 7, 2005. CEMEX's indirect ownership of GCCC exceeds five percent; therefore, these two companies are affiliated pursuant to section 771(33)(E) of the Act. In addition, both CEMEX and GCCC satisfy the criteria for treatment of affiliated parties as a single entity described at 19 CFR 351.401(f)(1): both producers have production facilities for similar and identical products such that substantial retooling of their production facilities would not be necessary to restructure manufacturing priorities. Consequently, any minor retooling required could be accomplished swiftly and with relative ease.

We also find that a significant potential for manipulation of prices and production exists as outlined under 19 CFR 351.401(f)(2). CEMEX owns indirectly a substantial percentage of GCCC. Also, CEMEX's managers or directors sit on the board of directors of GCCC and its affiliated companies. Accordingly, CEMEX's percentage ownership of GCCC and the interlocking boards of directors give rise to a significant potential for affecting GCCC's pricing and production decisions. Therefore, we have collapsed CEMEX and GCCC into one entity and calculated a single weighted-average margin using the information the firms provided in this review.

Constructed Export Price

Both CEMEX and GCCC reported constructed export price (CEP) sales. We calculated CEP based on delivered prices to unaffiliated customers in accordance with section 772(b) of the Act. Where appropriate, we made adjustments to the starting price for discounts, rebates, and billing adjustments. In accordance with section 772(d) of the Act and 19 CFR 351.402(b), we deducted those expenses, including inventory carrying costs, that were associated with commercial activities in the United States and related to the sale to an unaffiliated purchaser. We also made deductions for foreign brokerage and handling, foreign inland freight, U.S. inland freight and insurance, U.S. warehousing expenses, U.S. brokerage and handling, and U.S. duties pursuant to section 772(c)(2)(A) of the Act. Finally, we made an adjustment for CEP profit in accordance with section 772(d)(3) of the Act². No other adjustments to CEP were claimed or allowed.

² As a result of our findings at verification, we made an adjustment to the information CEMEX provided concerning its U.S. sales which affects the calculation of constructed export price profit. Specifically, while verifying indirect selling expenses CEMEX incurred in Mexico for sales to the United States, we found that CEMEX did not account for or claim a portion of its corporate selling expenses attributable to U.S. sales. For the preliminary results, we made an adjustment to the amount CEMEX claimed for indirect selling expenses incurred in Mexico for sales to the United States to correct for this omission.

With respect to subject merchandise to which value was added in the United States prior to sale to unaffiliated U.S. customers (i.e., cement that was imported and further-processed into finished concrete by U.S. affiliates of foreign exporters), we preliminarily determine that the special rule under section 772(e) of the Act for merchandise with value added after importation is applicable.

Section 772(e) of the Act provides that, where the subject merchandise is imported by a person affiliated with the exporter or producer and the value added in the United States by the affiliated person is likely to exceed substantially the value of the subject merchandise, we will determine the CEP for such merchandise using the price of identical or other subject merchandise if there is a sufficient quantity of sales to provide a reasonable basis for comparison and we determine that the use of such sales is appropriate. The regulations at 19 CFR 351.402(c)(2) provide that normally we will determine that the value added in the United States by the affiliated person is likely to exceed substantially the value of the subject merchandise if we estimate the value added to be at least 65 percent of the price charged to the first unaffiliated purchaser for the merchandise as sold in the United States. Normally, we will estimate the value added based on the difference between the price charged to the first unaffiliated purchaser for the merchandise as sold in the United States and the price paid for the subject merchandise by the affiliated person. We will base this determination normally on averages of the prices and the value added to the subject merchandise. If there is not a sufficient quantity of such sales or if we determine that using the price of identical or other subject merchandise is not appropriate, we may use any other reasonable basis to determine the CEP. See section 772(e) of the Act.

During the course of this administrative review, the respondent submitted information which allowed us to determine whether, in accordance with section 772(e) of the Act, the value added in the United States by its U.S. affiliates is likely to exceed substantially the value of the subject merchandise. To determine whether the value added is likely to exceed substantially the value of the subject merchandise, we estimated the value added based on the difference between the averages of the prices charged to the first unaffiliated purchaser for the merchandise as sold in the United States and the averages of the prices paid for subject merchandise by the affiliate. Based on this analysis, we estimate that the value added was at least 65 percent of the price the respondent charged to the first unaffiliated purchaser for the merchandise as sold in the United States. Therefore, we preliminarily determine that the value added is likely to exceed substantially the value of the subject merchandise. Also, the record indicates that there is a sufficient quantity of subject merchandise to provide a reasonable and appropriate basis for comparison. Accordingly, for purposes of determining dumping margins for the further-manufactured sales, we have applied the preliminary weighted-average margin reflecting the rate we calculated for sales of identical or other subject merchandise sold to unaffiliated purchasers.

Normal Value

A. Comparisons

In order to determine whether there was a sufficient volume of sales in the home market to serve as a viable basis for calculating normal value, we compared the respondent's volume of home-market sales of the foreign like product to the volume of U.S. sales of the subject merchandise in accordance with section 773(a)(1)(C) of the Act. Because the respondent's aggregate volume of home-market sales of the foreign like product was greater than five percent of its aggregate volume of U.S. sales for the subject merchandise, we determined that the home market was viable. Therefore, we have based normal value on home-market sales.

During the POR, the respondent sold Type II LA and Type V LA cement in the United States. The statute expresses a preference for matching U.S. sales to identical merchandise in the home market. See section 771(16) of the Act. The respondent sold cement produced as CPC 30 R, CPC 40, CPO 30, CPO 40, and CPO30R BRA cement in the home market. We have attempted to match the subject merchandise to identical merchandise sold in the home market. In situations where identical product types cannot be matched, we have attempted to match the subject merchandise to sales of similar merchandise in the home market. See sections 773(a)(1)(B) and 771(16) of the Act.

We were able to find home-market sales of identical and similar merchandise to which we could match sales of Type II LA and Type V LA cement sold in the U.S. market. In the three most recent administrative reviews of this proceeding, we determined that CPO 40 cement produced and sold in the home market is the identical match to Type V LA cement sold in the United States. See, e.g., Gray Portland Cement and Clinker From Mexico; Final Results of Antidumping Duty Administrative Review, 67 FR 12518 (March 19, 2002), and the accompanying Issues and Decision Memorandum at Comment 7. We have reviewed the information on the record and have determined that CPO 40 cement produced and sold in the home market is the identical match to Type V LA cement sold in the United States during this review period. If we could not find an identical match to the cement types sold in the United States in the same month in which the U.S. sale was made or during the contemporaneous period, we based normal value on similar merchandise.

During the POR, GCCC had sales of Type II LA cement in the United States and asserted that the merchandise it sells in the home market as CPO30R BRA cement is identical to Type II LA cement. We have reviewed the information on the record of this review and, based on our analysis, we have determined that GCCC's sales of CPO30R BRA cement in the home market were made outside the ordinary course of trade. See “Ordinary Course of Trade” section below.

In the 2000/2001 administrative review of this proceeding, we determined that the chemical and physical characteristics of CPO 40 cement produced and sold in Mexico are most similar to Type II LA cement sold in the United States. We have reviewed the information on the record of this POR and have determined that it is appropriate to match sales of CPO 40 cement produced and sold in Mexico to all sales of Type II LA sold in the United States.

Further, in accordance with section 771(16)(B) of the Act, we find that both bulk and bagged cement are produced in the same country and by the same producer as the types sold in the United States, both bulk and bagged cement are like the types sold in the United States in component materials and in the purposes for which used, and both bulk and bagged cement are approximately equal in commercial value to the types sold in the United States. The questionnaire responses submitted by the respondent indicate that, with the exception of packaging, sales of cement in bulk and sales of cement in bags are physically identical and both are used in the production of concrete. Also, because there is no difference in the cost of production between cement sold in bulk or in bagged form, both are approximately equal in commercial value. See CEMEX's and GCCC's responses to the Department's original and supplemental questionnaires dated November 30, 2004, December 9, 2004, March 31, 2005, and April 8, 2005. Therefore, we find that matching the U.S. merchandise which is sold in both bulk and bag to the foreign like product sold in either bulk or bag is appropriate.

B. Ordinary Course of Trade

Section 773(a)(1)(B) of the Act requires the Department to base normal value on “the price at which the foreign like product is first sold (or in the absence of a sale, offered for sale) for consumption in the exporting country, in the usual commercial quantities and in the ordinary course of trade.” Ordinary course of trade is defined as “the conditions and practices which, for a reasonable time prior to the exportation of the subject merchandise, have been normal in the trade under consideration with respect to merchandise of the same class or kind.” See section 771(15) of the Act.

In the instant review, we analyzed home-market sales of CPO30R BRA cement. Pursuant to section 773(a)(1)(B) of the Act, we based our examination on the totality of circumstances surrounding the respondent's sales in Mexico of CPO30R BRA cement, and we find that the respondent's home-market sales of this product made during the instant POR are outside the ordinary course of trade. See memorandum from Minoo Hatten to Laurie Parkhill, entitled “Ordinary-Course-of-Trade Analysis for the Preliminary Results of the 2003/2004 Administrative Review of the Antidumping Duty Order on Gray Portland Cement and Clinker from Mexico,” dated August 30, 2005.

Consequently, we have disregarded the respondent's sales of CPO30R BRA cement in Mexico and, as in previous reviews, matched sales of CPO 40 cement produced and sold in Mexico to sales of Type II LA sold in the United States. See “Comparisons” section above.

C. Arm's-Length Sales

To test whether sales to affiliated customers were made at arm's length, we compared the prices of sales to affiliated and unaffiliated customers, net of all movement charges, direct selling expenses, discounts, and packing. Where the price to the affiliated party was, on average, within a range of 98 to102 percent of the price of the same or comparable merchandise to the unaffiliated parties, we determined that the sales made to the affiliated party were at arm's length. See Modification Concerning Affiliated Party Sales in the Comparison Market, 67 FR 69186 (November 15, 2002). Consistent with 19 CFR 351.403, we only included in our margin analysis those sales to affiliated parties that were made at arm's length.

D. Cost of Production

The petitioner alleged on December 29, 2004, that the respondent sold cement in the home market at prices below the cost of production (COP). Upon examining the allegation, we determined that the petitioner had provided a reasonable basis to believe or suspect that the CEMEX and GCCC sold cement in Mexico at prices below the COP. Therefore, pursuant to section 773(b)(1) of the Act, we initiated a COP investigation to determine whether CEMEX and GCCC made home-market sales of cement during the POR at below-cost prices. See the memorandum from Mark Ross to Laurie Parkhill entitled “Gray Portland Cement and Clinker from Mexico: Request to Initiate Cost Investigation in the 2003/2004 Review,” dated February 18, 2005.

In accordance with section 773(b)(3) of the Act, we calculated the COP based on the sum of the costs of materials and fabrication employed in producing cement plus amounts for home-market selling, general, and administrative (SG&A) expenses. We used the home-market sales data and COP information provided by CEMEX and GCCC in their questionnaire responses.

After calculating the weighted-average COP and in accordance with section 773(b)(3) of the Act, we tested whether CEMEX's and GCCC's home-market sales were made at prices below the COP within an extended period of time in substantial quantities and whether such prices permitted recovery of all costs within a reasonable period of time. We compared the COP appropriate to the home-market prices less any applicable direct selling expenses, movement charges, discounts and rebates, and indirect selling expenses.

Pursuant to section 773(b)(2)(C) of the Act, if less than 20 percent of CEMEX's and GCCC's sales of a certain type of cement were at prices less than the COP, we do not disregard any below-cost sales of that product because the below-cost sales were not made in substantial quantities within an extended period of time. If 20 percent or more of CEMEX's and GCCC's sales of a certain type during the POR were at prices less than the COP, such below-cost sales were made in substantial quantities within an extended period of time pursuant to sections 773(b)(2)(B) and (C) of the Act. Based on comparisons of home-market prices to the appropriate weighted-average COP for the POR, we determined that below-cost sales were not made in substantial quantities within an extended period of time, and, therefore, we did not disregard any below-cost sales.

E. Adjustments to Normal Value

Where appropriate, we adjusted home-market prices for discounts, rebates, packing, handling revenue, interest revenue, and billing adjustments to the invoice price. In addition, we adjusted the starting price for inland freight, inland insurance, and warehousing expenses. We also deducted home-market direct selling expenses from the home-market price and home-market indirect selling expenses as a CEP-offset adjustment (see Level of Trade/CEP Offset section below). In addition, in accordance with section 773(a)(6) of the Act, we deducted home-market packing costs from and added U.S. packing costs to normal value.

Section 773(a)(6)(C)(ii) of the Act directs us to make an adjustment to normal value to account for differences in the physical characteristics of merchandise where similar products are compared. The regulations at 19 CFR 351.411(b) direct us to consider differences in variable costs associated with the physical differences in the merchandise. Where we matched U.S. sales of subject merchandise to similar models in the home market, we adjusted for differences in merchandise.

F. Level of Trade/CEP Offset

In accordance with section 773(a)(1)(B) of the Act, to the extent practicable, we determine normal value based on sales in the home market at the same level of trade as the CEP. The home-market level of trade is that of the starting-price sales in the home market or, when normal value is based on constructed value, that of sales from which we derive SG&A expenses and profit. For CEP, it is the level of the constructed sale from the exporter to an affiliated importer after the deductions required under section 772(d) of the Act (the CEP level).

To determine whether home-market sales are at a different level of trade than CEP level, we examine stages in the marketing process and selling functions along the chain of distribution between the producer and the unaffiliated customer. If the comparison-market sales are at a different level of trade and the difference affects price comparability, as manifested in a pattern of consistent price differences between the sales on which normal value is based and comparison-market sales at the level of trade of the export transaction, we make a level-of-trade adjustment under section 773(a)(7)(A) of the Act. Finally, for CEP sales, if the normal-value level is more remote from the factory than the CEP level and there is no basis for determining whether the difference in the levels between normal value and CEP level affects price comparability, we adjust normal value under section 773(a)(7)(B) of the Act (the CEP-offset provision). See Final Determination of Sales at Less Than Fair Value: Certain Cut-to-Length Carbon Steel Plate from South Africa, 62 FR 61731, 61732-33 (November 19, 1997).

With respect to U.S. sales (respondent reported CEP sales in the U.S. market), we conclude that CEMEX's and GCCC's sales constituted one level of trade. We based our conclusion on our analysis of each company's reported selling functions and sales channels after making deductions for selling expenses under section 772(d) of the Act. We found that, with some minor exceptions, CEMEX and GCCC performed the same selling functions to varying degrees in similar channels of distribution. We also concluded that the variations in the intensities of selling functions performed were not substantial when all selling expenses were considered.

Based on our analysis of CEMEX's and GCCC's reported selling functions and sales channels, we conclude that CEMEX's and GCCC's home-market sales to various classes of customers constitute two separate levels of trade (the CEMEX home-market level of trade and the GCCC home-market level of trade). We found that CEMEX and GCCC performed significantly different sales functions for sales to their home-market customers. Specifically, we found that the two home-market levels of trade differed with respect to selling activities such as after-sales service/warranties, customer approval, sales promotion/discount programs, sales forecasting, personnel training/exchange, and procurement and sourcing services. See the memorandum entitled “Gray Portland Cement and Clinker from Mexico: Level-of-Trade Analysis for the 03/04 Administrative Review,” dated August 30, 2005.

Further, we compared the CEMEX home-market level of trade to the CEP level and found that significantly different selling functions are performed at each level of trade and that fewer selling functions are performed for the U.S. sales than for the home-market sales. For example, sales at the CEP level do not include activities such as market research, strategic and economic planning, advertising, and after-sales service/warranties whereas sales in the CEMEX home-market level of trade include these activities. Based on this analysis, we concluded that the CEMEX home-market level of trade is different, is at a more advanced stage of distribution, and is more remote from the factory than the CEP level.

Next, we compared the GCCC home-market level of trade to the CEP level and also found that significantly different selling functions are performed at these levels of trade and that fewer selling functions are performed for the U.S. sales than for the home-market sales. For example, sales at the CEP level do not include activities such as advertising, customer approval, sales promotion, sales forecasting, strategic and economic planning, personnel training/exchange, and procurement and sourcing services whereas sales in the GCCC home-market level of trade include these activities. Based on this analysis, we have concluded that the GCCC home-market level of trade is different, is at a more advanced stage of distribution, and is more remote from the factory than the CEP level.

We could not match the CEP sales to sales at the same level of trade in the home market. In addition, we could not make a level-of-trade adjustment because the differences in price between the CEP level of trade and the home-market level of trade cannot be quantified due to the lack of an equivalent to the CEP level in the home market. Also, there is no other data on the record which would allow us to make a level-of-trade adjustment. Thus, we made a CEP-offset adjustment to normal value in accordance with section 773(a)(7)(B) of the Act. In accordance with section 773(a)(7) of the Act, we calculated the CEP offset as the smaller of the indirect selling expenses on the home-market sale or the indirect selling expenses we deducted from the starting price in calculating CEP.

Currency Conversion

Pursuant to section 773A(a) of the Act, we made currency conversions into U.S. dollars based on the exchange rates in effect on the dates of U.S. sales as certified by the Federal Reserve Bank.

Preliminary Results of Review

As a result of our review, we preliminarily determine the dumping margin for the collapsed respondent for the period August 1, 2003, through July 31, 2004, to be 40.54 percent.

Case briefs or other written comments in at least six copies must be submitted to the Assistant Secretary for Import Administration no later than one week after the issuance of the Department's last verification report in this review. The Department will notify all parties of the applicable briefing schedule. Pursuant to 19 CFR 351.309(d)(2), rebuttal briefs are due no later than five days after the submission of case briefs. A list of authorities used, a table of contents, and an executive summary of issues should accompany any briefs submitted to the Department. Executive summaries should be limited to five pages total, including footnotes. In accordance with 19 CFR 351.310, we will hold a public hearing to afford interested parties an opportunity to comment on arguments raised in case or rebuttal briefs, provided that such a hearing is requested by an interested party. If we receive a request for a hearing, we plan to hold the hearing three days after the deadline for submission of the rebuttal briefs at the U.S. Department of Commerce, 14th Street and Constitution Avenue, NW., Washington, DC 20230. Interested parties who wish to request a hearing, or to participate if one is requested, must submit a written request to the Assistant Secretary for Import Administration, U.S. Department of Commerce, Room 1870, within 30 days after the date of publication of the preliminary results of this review in the Federal Register. Requests should contain the following information: (1) the party's name, address, and telephone number; (2) the number of participants; (3) a list of the issues to be discussed. Oral presentations will be limited to issues raised in the briefs.

The Department will publish the final results of this administrative review, including the results of its analysis of issues raised in any case or rebuttal briefs, within 120 days of publication of this notice. See 19 CFR 351.213(h).

Assessment Rates

Upon completion of this review, the Department will determine, and U.S. Customs and Border Protection (CBP) shall assess, antidumping duties on all appropriate entries. In accordance with 19 CFR 351.212(b)(1), we have calculated an importer-specific assessment rate for merchandise subject to this review. If these preliminary results are adopted in the final results of review, we will direct CBP to assess the resulting assessment rates against the entered customs values for the subject merchandise on the importer's entries during the POR.

Cash-Deposit Requirements

In conducting recent reviews of CEMEX and GCCC, the Department has observed a pattern of significant differences between the weighted-average margins and the assessment rates it has determined for this respondent in those reviews. This pattern of differences suggests that the collection of a cash deposit for estimated antidumping duty based on net U.S. price may result in the undercollection of estimated antidumping duties at the time of entry, as discussed at Comment 6 of the “Issues and Decision Memorandum for the Administrative Review of Gray Portland Cement and Clinker from Mexico August 1, 2002, through July 31, 2003,” dated December 29, 2004. Therefore, we have determined that it is appropriate to continue to require a per-unit cash-deposit amount for entries of subject merchandise produced or exported by CEMEX and GCCC.

The following deposit requirements will be effective for all shipments of the subject merchandise entered, or withdrawn from warehouse, for consumption on or after the publication date of the final results of review, as provided by section 751(a)(1) of the Act: (1) The cash-deposit amount for CEMEX/GCCC will be the amount per metric ton determined in the final results of review; (2) for previously reviewed or investigated companies not mentioned above, the cash-deposit rate will continue to be the company-specific rate published for the most recent period; (3) if the exporter is not a firm covered in this review, a prior review, or in the original less-than-fair-value (LTFV) investigation but the manufacturer is, the cash-deposit rate will be the rate established for the most recent period for the manufacturer of the merchandise; and (4) the cash-deposit rate for all other manufacturers or exporters will be 61.85 percent, the all-others rate from the LTFV investigation. See Final Determination of Sales at Less Than Fair Value: Gray Portland Cement and Clinker from Mexico, 55 FR 29244 (July 18, 1990). These deposit requirements, when imposed, shall remain in effect until publication of the final results of the next administrative review.

Notification to Interested Parties

This notice also serves as a preliminary reminder to importers of their responsibility under 19 CFR 351.402(f) to file a certificate regarding the reimbursement of antidumping duties prior to liquidation of the relevant entries during this POR. Failure to comply with this requirement could result in the Secretary's presumption that reimbursement of antidumping duties occurred and the subsequent assessment of double antidumping duties.

We are issuing and publishing this notice in accordance with sections 751(a)(1) and 777(i)(1) of the Act.

Dated: August 30, 2005.
Joseph A. Spetrini,
Acting Assistant Secretary for Import Administration.

[FR Doc. E5-4974 Filed 9-12-03; 8:45 am]

BILLING CODE 3510-DS-S